DEPARTMENT OF TRANSPORTATION

Federal Railroad Administration

[Docket No. FRA-2017-0002-N-21]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the currently approved information collection activities listed below. Before submitting these information collection requests (ICRs) to the Office of Management and Budget (OMB) for approval, FRA is soliciting public comment on specific aspects of the activities, which are identified in this notice.

DATES: Comments must be received no later than November 13, 2017.

ADDRESSES: Submit written comments on any or all of the following proposed activities by mail to either: Mr. Robert Brogan, Information Collection Clearance Officer, Office of Railroad Safety, Regulatory Analysis Division, RRS-21, Federal Railroad Administration, 1200 New Jersey Avenue SE., Mail Stop 25, Washington, DC 20590; or Ms. Kim Toone, Information Collection Clearance Officer, Office of Information Technology, RAD-20, Federal Railroad Administration, 1200 New Jersey Avenue SE., Mail Stop 35, Washington, DC 20590. Commenters requesting FRA to acknowledge receipt of their respective comments must include a self-addressed stamped postcard stating, “Comments on OMB Control Number 2130-XXXX,” and should also include the title of the collection of information. Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, RRS-21, Federal Railroad Administration, 1200 New Jersey Avenue SE., Mail Stop 25, Washington, DC 20590 (telephone: (202) 493-6292) or Ms. Kim Toone, Information Collection Clearance Officer, Office of Information Technology, RAD-20, Federal Railroad Administration, 1200 New Jersey Avenue SE., Mail Stop 35, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8-12. Specifically, FRA invites interested parties to comment on the following ICRs regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment will promote its efforts to reduce the administrative and paperwork burdens associated with the collection of information that Federal regulations mandate. In summary, FRA reasons that comments received will advance three objectives: (1) Reduce reporting burdens; (2) ensure that it organizes information collection requirements in a “user-friendly” format to improve the use of such information; and (3) accurately assess the resources expended to retrieve and produce information requested. See 44 U.S.C. 3501.

The summaries below describe the ICRs that FRA will submit for OMB clearance as the PRA requires:

Title: Identification of Cars Moved under 49 CFR 232.3(d) (Formerly Order 13528).

OMB Control Number: 2130-0506.

Abstract: This collection of information identifies certain railroad freight cars authorized to move under 49 CFR 232.3(d) (formerly Interstate Commerce Commission Order 13528). Paragraph (d) of 49 CFR 232.3 allows for the movement of certain railroad freight cars without air brakes from initial terminal locations or through interchange locations under certain conditions.

Paragraph (d) of 49 CFR 232.3 requires the cars to be identified by a card attached to the side of the equipment specifically noting and signed by the shipper that the car is being moved under the authority of that paragraph. Railroads typically use carrier bad order forms or tags for these purposes. These forms are readily available from all carrier repair facilities. If a car moving under 49 CFR 232.3(d) is not properly tagged, a carrier is not legally allowed to move the car. Section 232.3(d)(3) does not require carriers or shippers to retain cards or tags. When a car bearing a tag for movement under this provision arrives at its destination, the tag is simply removed. FRA estimates approximately 400 cars per year are moved under this regulation.

Form Number(s): N/A.

Affected Public: Businesses.

Respondent Universe: 755 railroads.

Frequency of Submission: On occasion.

Affected Public: Businesses.

Reporting Burden:

CFR section | Respondent universe | Total annual responses | Average time per response (minutes) | Total annual burden hours
232.3(d)—Cars moved in Accordance with Emergency Order 13528—Tagging | 755 railroads | 800 tags | 5 | 67

Total Estimated Annual Responses: 800.

Total Estimated Annual Burden: 67 hours.

Type of Request: Extension without Change of a Currently Approved Collection.

Title: U.S. Locational Requirement for Dispatching U.S. Rail Operations.

OMB Control Number: 2130-0556.

Abstract: With one exception, 49 CFR part 241 requires, in the absence of a waiver, that all dispatching of railroad operations occurring in the United States be performed in the United States. A railroad may, however, conduct dispatching from Mexico or Canada in an emergency situation, but only for the duration of the emergency situation. A railroad relying on this exception must provide written notification of its action to the FRA Regional Administrator of each FRA region in which the railroad emergency operation occurs as soon as practicable; such notification is not required before addressing the emergency situation. The information collected under this rule is used as part of FRA's oversight function to ensure that extraterritorial dispatchers comply with applicable safety regulations.

Form Number(s): N/A.

Affected Public: Businesses.

Respondent Universe: 4 railroads.

Frequency of Submission: On occasion.

Affected Public: Businesses.

Reporting Burden:

CFR section | Respondent universe | Total annual responses | Average time per response (hours) | Total annual burden hours
241.9—Written notification to FRA Regional Administrator of emergency where dispatcher outside the U.S. dispatches a railroad operation in the U.S. for the duration of the emergency | 4 railroads | 1 notice | 8 | 8

Total Estimated Annual Responses: 1.

Total Estimated Annual Burden: 8 hours.

Type of Request: Extension without Change of a Currently Approved Collection.

Title: Safety and Health Requirements Related to Camp Cars.

OMB Control Number: 2130-0595.

Abstract: Subparts C and E of 49 CFR part 228 address the construction of railroad-provided sleeping quarters (camp cars) and set certain safety and health requirements for such camp cars. Specifically, subpart E of part 228 prescribes minimum safety and health requirements for camp cars that a railroad provides as sleeping quarters to any of its train employees, signal employees, and dispatching service employees (covered-service employees) and individuals employed to maintain its right of way. Subpart E requires railroad-provided camp cars to be clean, safe, sanitary, and be equipped with indoor toilets, potable water, and other features to protect the health of car occupants. Subpart C of part 228 prohibits a railroad from positioning a camp car intended for occupancy by individuals employed to maintain the railroad's right of way in the immediate vicinity of a switching or humping yard which handles railcars containing hazardous material. Generally, the requirements of Subparts C and E to part 228 are intended to provide covered-service employees an opportunity for rest free from the interruptions caused by noise under the control of the railroad.

The information collected under this rule is used by FRA to ensure railroads operating camp cars comply with all the requirements mandated in this regulation to protect the health and safety of camp car occupants.

Form Number(s): N/A.

Affected Public: Businesses.

Respondent Universe: 1 railroad.

CFR section | Respondent universe | Total annual responses | Average time per response | Total annual burden hours
228.323—Copy—Water Hydrant/Hoses/Nozzle Inspections | 1 railroad | 740 Inspections | 3 minutes | 37
—Hydrant/Hoses/Nozzle Inspections—Records | 1 railroad | 740 Records | 2 minutes | 25
—Copy of records at Central Location | 1 railroad | 740 Record copies | 10 seconds | 2
—Training—For Individuals to Fill Potable Water Systems | 1 railroad | 5 Trained employees | 15 minutes | 1
—Certification from State/Local Health Authority | 1 railroad | 666 Certificates | 1 hour | 666
—Certification by Laboratory | 1 railroad | 74 Certificates | 20 minutes | 25
—Certification Copies | 1 railroad | 740 Certification copies | 10 seconds | 2
—Draining/Flushing and Record | 1 railroad | 111 Records | 30 minutes | 56
—Occupant Report of Taste Problem | 1 railroad | 10 Taste reports | 10 seconds | .028
—Draining/Flushing and Record When Taste Report | 1 railroad | 10 Records | 30 minutes | 5
—Lab Tests from Taste Report | 1 railroad | 10 Tests/certificates | 20 minutes | 3
—Lab Report Copies | 1 railroad | 10 Lab report copies | 2 minutes | .3333
—Signage (for Non-Potable Water) | 1 railroad | 740 Signs | 2.5 minutes | 31
228.331—First Aid and Life Safety
—Modified Emergency Preparedness Plan | 1 railroad | 740 Modified Plans | 15 minutes | 185
—Modified Emergency Preparedness Copies | 1 railroad | 5,840 Plan Copies | 3 seconds | 5
228.333—Remedial Action
—Oral Report of Needed Repair | 1 railroad | 30 Reports | 10 seconds | .08333

Total Estimated Annual Responses: 11,206.

Total Estimated Annual Burden: 1,043 hours.

Type of Request: Extension without Change of a Currently Approved Collection.

Title: Training, Qualification, and Oversight for Safety-Related Railroad Employees.

OMB Control Number: 2130-0597.

Abstract: On November 7, 2014, FRA published a final rule—49 CFR parts 214, 232, and 243—establishing minimum training standards for all safety-related railroad employees, as required by the Rail Safety Improvement Act of 2008. The final rule requires each railroad or contractor that employs one or more safety-related employees to develop and submit a training program to FRA for approval and to designate the minimum training qualifications for each occupational category of employee.

The rule also requires most employers to conduct periodic oversight of their own employees and annual written reviews of their training programs to close performance gaps. Additionally, the rule requires specific training and qualification of operators of roadway maintenance machines that can hoist, lower, and horizontally move a suspended load.

Finally, the rule clarifies the existing training requirements for railroad and contractor employees who perform brake system inspections, tests, or maintenance.

FRA will use the information collected to ensure each employer—railroad or contractor—conducting operations subject to new part 243 develops, adopts, submits, and complies with a training program for each category and subcategory of safety-related railroad employee. Each program must have training components identified so that FRA will understand how the program works when it reviews the program for approval. Further, FRA will review the required training programs to ensure they include initial, ongoing, and on-the-job criteria; testing and skills evaluation measures designed to foster continual compliance with Federal standards; and the identification of critical safety defects and plans for immediate remedial actions to correct them.

In response to petitions for reconsideration, FRA has extended the effective date for developing the required Training Program under § 243.101 for employers with 400,000 or more total annual employee work hours to January 1, 2019, and for employers with less than 400,000 total annual employee work hours to May 1, 2020.

Form Number(s): N/A.

Affected Public: Businesses.

Respondent Universe: 1,550 railroads/contractors/training organizations/learning institutions.

214.357—Training and Qualification Program for Operators of Roadway Maintenance Machines (RMM) Equipped with a Crane | 535 railroads/contractors | 535 revised programs | 4 hours | 2,140 hours.
—Initial Training/Qualification of RMM Operators (Cranes) | 17,396 roadway workers | 1,750 tr. worker + 15,646 tr. wrkr | 24 hours + 4 hours | 104,584 hour.
—Periodic Training/Qualification of RMM Operators (Cranes) | 17,396 roadway workers | 17,396 trained workers | 1 hour | 17,396 hours.
—Records of Training/Qualification | 17,396 roadway workers | 17,396 records | 15 minutes | 4,349 hours.
243.101—Training Programs Submissions by Employers subject to this Part with 400,000 total annual employee work hours or more by Jan. 1, 2018 | 56 railroads/contractors/etc | 18 programs | 6,480 hours | 116,640 hours.
—Submissions by Employers subject to this Part with less than 400,000 total annual work hours by May 1, 2020 | 1,461 railroads/contractors/etc | 496 programs | 20 hours | 9,920 hours.
—Submission by New Employers Commencing Operations after Jan. 1, 2019 | 5 New Railroads | 5 programs | 40 hours | 200 hours.
—Validation documents sent from contractors that train their own safety-related employees to railroads that are using their training programs | 795 railroad contractors/subcontractors | 50 documents | 15 minutes | 13 hours.
—Copies of contractor validation documents kept by railroads | 795 railroads | 50 copies | 10 minutes | 8 hours.
243.103—Training Programs required to be modified by FRA due to essential missing/inadequate components | 1,489 railroads/contractors/etc | 73 programs | 10 hours | 730 hours.
243.105—Optional Model Program Development | 1,489 railroads/contractors/etc | 4 model training programs | 8 hours | 32 hours.
—Customized Training Program Submissions | 1,489 railroads/contractors/etc | 113 customized training programs | 4 hours | 452 hours.
243.109—Initial Training Programs Found Non-Conforming to this Part by FRA—Revisions to Programs | 56 railroads/contractors/etc | 7 programs | 10 hours | 70 hours.
—Written Request to Extend Revision/Resubmission Deadline | 56 railroads/contractors/etc | 1 request | 15 minutes | .25 hour.
—Previously Approved Programs Requiring an Informational Filing When Modified | 56 railroads/contractors/etc | 8 informational filings | 432 hours | 3,456 hours.
—New Portions or Substantial Revisions to an approved Training Program | 56 railroads/contractors | 25 revised programs | 16 hours | 400 hours.
—Training Programs found Deficient | 56 railroads/contractors | 12 rev. program | 16 hours | 192 hours.
—Copy of Additional Submissions, Resubmissions, and Informational Filings to Labor (Union) Presidents | 56 railroads/contractors | 225 copies | 15 minutes | 56 hours.
—Railroad Statement Affirming that a copy of Submissions, Resubmissions, or Informational Filings has been served to Labor (Union) Presidents | 56 railroads/contractors/etc | 25 affirming statements | 60 minutes | 25 hours.
—Labor comments on Railroad Training Program Submissions, Resubmissions, or Informational Filings | 5 RR labor organizations | 3 comments | 4 hours | 12 hours.
243.111—Written Request by Training Organization/Learning Institution Previously Providing Training Services to Railroads Prior to Jan. 1, 2018, to Provide Such Services after Jan. 1, 2019 | 50 tr. organizations/Learning Institutions | 3 requests | 60 minutes | 3 hours.
—Revised/Resubmitted Training Program by Training Organization/Learning Institution after found Deficient by FRA | 50 tr. Organizations/Learning Inst | 2 programs | 20 hours | 40 hours.
—Informational Filing by Training Organization/Learning Institution due to New Federal Laws/Regulations/Order or New Technologies/Procedures/Equipment | 50 tr. Organizations/Learning Inst | 1 filing | 432 hours | 432 hours.
—New Portions or Revisions to Training Organization/Learning Institution Training Program Found Deficient | 50 tr. Organizations/Learning Inst | 2 programs | 20 hours | 40 hours.
—Safety Related Employees Instructed by Training Organizations/Records | 50 tr. Organizations/Learning Inst | 1,600 employees + 1,600 records | 8 hours + 5 minutes | 12,933 hours.
—Request to Training Organization/Learning Institution by Student to Provide Transcript or Record | 50 tr. Organizations/Learning Inst | 200 requests + 200 records | 5 minutes + 5 minutes | 34 hours.
243.113—Required Employer Information Sent to FRA Prior to First Electronic Submission (Employers with 400,000 Annual Work Hours or More) | 106 RRs/contractors/learning institution /associations | 60 letters | 15 minutes | 15 hours.
243.201—Designation of Existing Safety-related Employees by Job Category—Lists (Employer with 400,000 Annual Work Hours or More) | 106 railroads/contractors | 13 lists | 15 minutes | 3 hours.
—Written Request to Extend Deadline for Designation List by These Employers | 106 railroads/contractors | 3 requests | 60 minutes | 3 hours.
—New RRs Operating After Jan. 1, 2018, Designation of Safety-related Employees by Job Category—Lists | 5 railroads | 5 lists | 15 minutes | 1 hour.
—Training of Newly Hired Employees or Those Assigned New Safety-related Duties and Records | 106 railroads/contractors | 114 tr. employees + 114 records | 8 hours + 15 minutes | 941 hours.
—Requests for Relevant Qualification or Training Record from an Entity Other Than Current Employer | 106 railroads/contractors | 11 requests + 11 records | 5 minutes + 5 minutes | 2 hours.
—Testing of Employees When Current Record of Training is Unavailable | 106 railroads/contractors | 68 tests + 68 records | 8 hours + 30 minutes | 578 hours.
—Testing of Employees Who Have Not Received Initial/Periodic Training or Who Have Not Performed the Necessary Safety-Related Duties for an Occupational Category or Subcategory in the Previous 180 Days | 106 railroads/contractors | 68 tests + 68 records | 8 hours + 30 minutes | 578 hours.
243.203—Electronic Recordkeeping—Systems Set Up to Meet FRA Requirements | 106 RRs/contractors | 20 systems | 120 hours | 2,400 hours.
—Transfer of Records to Successor Employer | 106 RRs/contractors | 20 records | 15 minutes | 5 hours.
243.205—Modified Training Resulting from Periodic Oversight Tests and Inspections | 106 railroads/contractors | 1 modified programs | 40 hours | 40 hours.
—Periodic Tests and Inspections | 106 railroads/contractors | 8,600 tests/Inspections | 10 minutes | 1,433 hours.
—RR Identification of Supervisory Employees Who Conduct Periodic Oversight Tests by Category/Subcategory | 106 railroads/contractors | 10 identification | 5 minutes | 1 hour.
—Contractor Periodic Tests/Inspections Conducted by RR Supervisory Employees | 106 railroads/contractors | 4,695 tests/inspections | 20 minutes | 1,565 hours.
—Notification by RR of Contractor Employee Non-Compliance with Federal Laws/Regulations/Orders to Employee and Employee's Employer | 106 railroads/contractors | 175 notices + 175 notices | 5 minutes | 30 hours.
—Contractor conduct of Periodic Oversight Tests/Inspections of Its Safety-related Employees | 795 contractors | 795 tests/inspections | 10 minutes | 133 hours.
—Contractor Direct Training of Its Employees for Qualifying Those Employees to Perform Safety-related Duties | 11 contractors | 45 trained employees | 8 hours | 360 hours.
—Employer Records of Periodic Oversight | 56 railroads/contractors | 5,490 records | 5 minutes | 458 hours.
243.207—Written Annual Review of Safety Data (RRs with 400,000 Annual Employee Work Hours or More) | 18 railroads | 4 reviews | 20 hours | 80 hours.
—RR Copy of Written Annual Review at System Headquarters | 18 railroads | 4 review copies | 20 minutes | 1 hour.
—RR Designation of Person(s) to Conduct Written Annual Review | 18 railroads | 48 designations | 15 minutes | 12 hours.
—Adjustments to Initial/Refresher Training Based Upon Results of Written Annual Review | 18 railroads | 1 adjusted program | 1 hour | 1 hour.
—RR Notification to Contractor of Relevant Training Program Adjustments | 18 railroads | 2 notifications | 15 minutes | 1 hour.
—Contractor Adjustment of Its Training Program Based on RR Information | 38 contractors | 1 adjusted program | 20 hours | 20 hours.
243.209—Railroad Maintained List of Contractors Utilized | 106 railroads | 11 lists | 30 minutes | 6 hours.
—Updated Lists of Contractors | 106 railroads | 1 list | 15 minutes | .25 hour.

Total Estimated Annual Responses: 71,752.

Total Estimated Annual Burden: 281,752 hours.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Acting Chief Counsel.

[FR Doc. 2017-19354 Filed 9-12-17; 8:45 am]

BILLING CODE 4910-06-P